DEPARTMENT OF TRANSPORTATION

National Highway Traffic Safety Administration

Petition for Exemption From the Vehicle Theft Prevention Standard; Mazda

AGENCY: National Highway Traffic Safety Administration (NHTSA) Department of Transportation (DOT).

ACTION: Grant of petition for exemption.

SUMMARY: This document grants in full the Mazda Motor Corporation (Mazda) petition for an exemption of the CX-5 vehicle line in accordance with 49 CFR Part 543, Exemption from the Theft Prevention Standard. This petition is granted because the agency has determined that the antitheft device to be placed on the line as standard equipment is likely to be as effective in reducing and deterring motor vehicle theft as compliance with the parts marking requirements of the Theft Prevention Standard (49 CFR Part 541).

DATES: The exemption granted by this notice is effective beginning with the 2013 model year.

FOR FURTHER INFORMATION CONTACT: Ms. Carlita Ballard, Office of International Policy, Fuel Economy and Consumer Programs, NHTSA, West Building, W43-439, 1200 New Jersey Avenue, SE., Washington, DC 20590. Ms. Ballard's telephone number is (202) 366-5222. Her fax number is (202) 493-2990.

SUPPLEMENTARY INFORMATION: In a petition dated April 7, 2011, Mazda requested an exemption from the parts-marking requirements of the Theft Prevention Standard (49 CFR Part 541) for its MY 2013 CX-5 vehicle line.

The petition requested an exemption from parts-marking pursuant to 49 CFR Part 543, Exemption from Vehicle Theft Prevention Standard, based on the installation of an antitheft device as standard equipment for the entire vehicle line.

Under § 543.5(a), a manufacturer may petition NHTSA to grant exemptions for one vehicle line per model year. In its petition, Mazda provided a detailed description and diagram of the identity, design, and location of the components of the antitheft device for the new vehicle line. Mazda will install a passive transponder-based, electronic immobilizer antitheft device as standard equipment on its CX-5 vehicle line beginning with MY 2013. Major components of the antitheft device will include a powertrain control module, an immobilizer control module, a security light, coil antenna, transmitter with transponder, LF antenna and a FR receiver. The device will not provide any visible or audible indication of unauthorized vehicle entry (i.e., flashing lights or horn alarm).

Mazda stated that activation of the immobilization device occurs when the ignition is turned to the “OFF” position and since the transponder is integrated into the immobilizer device, any inadvertent activation of the device is prevented. Additionally, Mazda stated that when the ignition is turned to the “ON” position, a code is transmitted from the transponder to the immobilizer control module. Mazda further stated that if the code from the transponder matches with the code programmed in the immobilizer control unit, the vehicle's engine can be started, and if the codes do not match, the engine will be disabled. Mazda also stated that it is very difficult to defeat this type of electronic engine immobilizer device because there are no moving parts and there is a separate battery located in the key. Additionally, Mazda stated that the immobilizer device will incorporate a LED indicator that will provide information about the “set” and “unset” condition of the device. Mazda stated that when the ignition is turned to the “ON” position, the LED illuminates continuously for 3 seconds to indicate the “unset” state of the device and when the ignition is in the “OFF” position, the flashing LED indicates the “set” state of the device confirming that the vehicle is protected by the immobilizer. Mazda's submission is considered a complete petition as required by 49 CFR 543.7, in that it meets the general requirements contained in § 543.5 and the specific content requirements of § 543.6.

In addressing the specific content requirements of § 543.5, Mazda provided a detailed list of the tests conducted and believes that the device is reliable and durable since the device complied with its specified requirements for each test. Specifically, Mazda stated that the components of the immobilization device were tested in climatic, mechanical and chemical environments, and for its immunity to various electromagnetic radiation and electric conduction. Mazda stated that the antitheft device and operation of the electronic engine immobilizer system makes conventional theft methods ineffective, (i.e., hot-wiring and attacking the ignition lock cylinder). Mazda also stated that there is no way to start the vehicle by mechanically overriding the device and that successful key duplication would be virtually impossible.

Mazda provided data on the effectiveness of other similar antitheft devices installed on vehicle lines in support of its belief that its device will be at least as effective as those comparable devices. Specifically, Mazda stated that this device was installed on certain MY 1996 Ford vehicles as standard equipment, (i.e., all Ford Mustang GT, Cobra, Taurus LX, SHO and Sable LS models). In MY 1997, Mazda installed its immobilizer device on the entire Ford Mustang vehicle line as standard equipment. When comparing 1995 model year Mustang vehicle thefts (without immobilizers) with MY 1997 Mustangs vehicle thefts (with immobilizers), Mazda referenced the National Crime Information Center`s (NCIC) theft information which showed that there was a 70% reduction in theft experienced when comparing MY 1997 Mustang vehicle thefts (with immobilizers) to MY 1995 Mustang vehicle thefts (without immobilizers). Mazda also stated that the Highway Loss Data Institute's (HLDI) September 1997 Theft Loss Bulletin reported an overall theft loss decrease of approximately 50% for both the Ford Mustang and Taurus models upon installation of an antitheft immobilization device. Additionally, Mazda referenced a July 2000 International Institute for Highway Safety news release which reported that when comparing theft loss data before and after equipping vehicles with passive immobilizer devices, the data showed an average theft reduction of approximately 50% for vehicles with immobilizer devices.

Based on the supporting evidence submitted by Mazda, the agency believes that the antitheft device for the Mazda CX-5 vehicle line is likely to be as effective in reducing and deterring motor vehicle theft as compliance with the parts-marking requirements of the Theft Prevention Standard (49 CFR part 541).

The agency also notes that the device will provide four of the five types of performance listed in § 543.6(a)(3): promoting activation; preventing defeat or circumvention of the device by unauthorized persons; preventing operation of the vehicle by unauthorized entrants; and ensuring the reliability and durability of the device.

Pursuant to 49 U.S.C. 33106 and 49 CFR 543.7(b), the agency grants a petition for exemption from the parts-marking requirements of part 541 either in whole or in part, if it determines that, based upon substantial evidence, the standard equipment antitheft device is likely to be as effective in reducing and deterring motor vehicle theft as compliance with the parts-marking requirements of part 541. The agency finds that Mazda has provided adequate reasons for its belief that the antitheft device for its new vehicle line is likely to be as effective in reducing and deterring motor vehicle theft as compliance with the parts-marking requirements of the Theft Prevention Standard (49 CFR part 541). This conclusion is based on the information Mazda provided about its device.

For the foregoing reasons, the agency hereby grants in full Mazda's petition for exemption for the Mazda CX-5 vehicle line from the parts-marking requirements of 49 CFR part 541, beginning with MY 2013 vehicles. The agency notes that 49 CFR part 541, Appendix A-1, identifies those lines that are exempted from the Theft Prevention Standard for a given model year. 49 CFR 543.7(f) contains publication requirements incident to the disposition of all part 543 petitions. Advanced listing, including the release of future product nameplates, the beginning model year for which the petition is granted and a general description of the antitheft device is necessary in order to notify law enforcement agencies of new vehicle lines exempted from the parts-marking requirements of the Theft Prevention Standard.

If Mazda decides not to use the exemption for this line, it must formally notify the agency. If such a decision is made, the line must be fully marked according to the requirements under 49 CFR 541.5 and 541.6 (marking of major component parts and replacement parts).

NHTSA notes that if Mazda wishes in the future to modify the device on which this exemption is based, the company may have to submit a petition to modify the exemption.

Part 543.7(d) states that a part 543 exemption applies only to vehicles that belong to a line exempted under this part and equipped with the anti-theft device on which the line's exemption is based. Further, § 543.9(c)(2) provides for the submission of petitions “to modify an exemption to permit the use of an antitheft device similar to but differing from the one specified in that exemption.”

The agency wishes to minimize the administrative burden that § 543.9(c)(2) could place on exempted vehicle manufacturers and itself. The agency did not intend in drafting part 543 to require the submission of a modification petition for every change to the components or design of an antitheft device. The significance of many such changes could be de minimis. Therefore, NHTSA suggests that if the manufacturer contemplates making any changes, the effects of which might be characterized as de minimis, it should consult the agency before preparing and submitting a petition to modify.

Authority: 49 U.S.C. 33106; delegation of authority at 49 CFR 1.50.

Issued on: July 8, 2011.
Christopher J. Bonanti,
Associate Administrator for Rulemaking.

[FR Doc. 2011-17715 Filed 7-13-11; 8:45 am]

BILLING CODE 4910-59-P